FEDERAL COMMUNICATIONS COMMISION

Notice of Public Information Collection(s) Being Reviewed by the Federal Communications Commission

August 28, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 4, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0110.

Title: Application for Renewal of License for AM, FM, TV Translator, or LPTV Station.

Form Number: FCC Form 303-S.

Type of Review: Extension of currently approved collection.

Respondents: Business or other for-profit entities; Not-for-profit institutions.

Number of Respondents: 5,492.

Estimated Time per Response: 1.0 hours (avg.).

Frequency of Response: Reporting once every 8 years.

Total Annual Burden: 5,288 hours.

Total Annual Costs: $1,560,851.

Needs and Uses: FCC Form 303-S is used to apply for renewal of a commercial or noncommercial AM, FM, or TV broadcast station and FM translator, TV translator, or Low Power TV (LPTV) broadcast station license. Form 303-S is used to seek the joint renewal of licenses for an FM or TV translator station and its co-owned primary FM, TV, or LPTV station. The FCC staff use data from Form 303-S to assure that requisite reports for an application renewal have been filed and that the licensee continues to meet basic statutory requirements for broadcast station license. An applicant must post a public notice to inform the public that the station has filed for license renewal.

OMB Control Number: 3060-XXXX.

Title: Digital Audio Broadcasting Systems And Their Impact On the Terrestrial Radio Broadcast Service.

Form Number: N/A.

Type of Review: New collection.

Respondents: Business or other for-profit entities.

Number of Respondents: 12,000.

Estimated Time per Response: 2 hours.

Frequency of Response: Recordkeeping; One-time reporting requirement.

Total annual burden: 24,000 hours.

Total Annual Costs: $30,000.

Needs and Uses: The FCC will require station licensees to provide information relative to implementation of interim hybrid digital operations. This information will provide be used to provide guidance on the rate of the transition from analog to digital radio broadcasting in the various radio markets; to confirm continuing compliance with current radio frequency radiation (RFR) exposure restrictions; to provide updated transmitter output power (TPO) levels for FM stations; and to assist in the resolution of interference complaints, if any, which may arise due to the commencement of digital broadcasting.

Federal Communications Commission.
Marlene H. Dortch,
Secretary.

[FR Doc. 02-22592 Filed 9-4-02; 8:45 am]

BILLING CODE 6712-10-P